ENVIRONMENTAL PROTECTION AGENCY

[FRL9955-57-ORD]

Federal Interagency Steering Committee on Multimedia Environmental Modeling

AGENCY: U.S. Environmental Protection Agency (EPA).

ACTION: Notice of open meeting.

SUMMARY: The annual public meeting of the Federal Interagency Steering Committee on Multimedia Environmental Modeling (ISCMEM) will convene to discuss developments in environmental modeling applications, tools and frameworks, as well as new operational initiatives among the participating agencies. The meeting this year will emphasize collaboration.

DATES: December 14, 2016, from 9:00 a.m. to 5:00 p.m., Arlington, VA.

ADDRESSES: National Science Foundation, 4201 Wilson Boulevard, Arlington, VA 22230.

FOR FURTHER INFORMATION CONTACT: Inquiries and notice of intent to attend the meeting may be emailed to: Brenda Rashleigh, U.S. Environmental Protection Agency, 27 Tarzwell Drive, Narragansett, RI 02881, 401-782-3014, Rashleigh.brenda@epa.gov.

SUPPLEMENTARY INFORMATION:

Background: Federal agencies have been cooperating since 2001 under a Memorandum of Understanding (MOU) on the research and development of multimedia environmental models. The MOU, which was revised in 2016, establishes a framework for facilitating cooperation and coordination among the six following agencies (the specific research organization within the agency is in parentheses): National Science Foundation; U.S. Army Corps of Engineers (Engineer Research and Development Center); U.S. Department of Energy (Office of Biological and Environmental Research); U.S. Environmental Protection Agency (Office of Research and Development); U.S. Geological Survey; and U.S. Nuclear Regulatory Commission (Office of Nuclear Regulatory Research). These agencies are cooperating and coordinating in the research and development of multimedia environmental models, software and related databases, including development, enhancements, applications and assessments of site specific, generic, and process-oriented multimedia environmental models. Multimedia model development and simulation supports interagency interests in human and environmental health risk assessment, uncertainty analyses, water supply issues and contaminant transport.

Purpose of the Public Meeting: The public meeting provides an opportunity for other Federal and State agencies, the scientific community, and the public to be briefed on ISCMEM activities and initiatives, and to discuss technological advancements in multimedia environmental modeling.

Proposed Agenda: The ISCMEM Chair will open the meeting with an overview of the goals of the MOU and current activities of ISCMEM, followed by a series of presentations on modeling efforts in the Agencies in the morning, and Workgroup discussions on the afternoon.

Meeting Access: The meeting will be available through Web Meeting Services. To obtain web access, all interested attendees must pre-register by emailing Brenda Rashleigh (Rashleigh.Brenda@epa.gov) or Bill Cooper (WJCOOPER@nsf.gov), indicating their intent to participate in the meeting and providing their full contact information and affiliation.

Dated: November 16, 2016.
Brenda Rashleigh,
Chair, Federal Interagency Steering Committee on Multimedia Environmental Modeling.

[FR Doc. 2016-28261 Filed 11-22-16; 8:45 am]

BILLING CODE 6560-50-P